DEPARTMENT OF ENERGY

Federal Energy Regulatory Commission

[Docket No. EL09-19-000]

Southern California Edison Company; Notice of Institution of Proceeding and Refund Effective Date

December 19, 2008.

On December 19, 2008, the Commission issued an order that instituted a proceeding in Docket No. EL09-19-000, pursuant to section 206 of the Federal Power Act (FPA), 16 U.S.C. 824e (2005), to consider the justness and reasonableness of Southern California Edison Company's proposed rate reduction and whether a further decrease in rates may be warranted. Southern California Edison Co., 125 FERC ¶ 61,329 (2008).

The refund effective date in Docket No. EL09-19-000, established pursuant to section 206(b) of the FPA, will be the date of publication of this notice in the Federal Register.

Kimberly D. Bose,
Secretary.

[FR Doc. E8-30925 Filed 12-29-08; 8:45 am]

BILLING CODE 6717-01-P